DEPARTMENT OF COMMERCE

National Oceanic and Atmospheric Administration

RIN 0648-XF500-X

Marine Mammals; File No. 21143

AGENCY: National Marine Fisheries Service (NMFS), National Oceanic and Atmospheric Administration (NOAA), Commerce.

ACTION: Notice; receipt of application.

SUMMARY: Notice is hereby given that Dr. Jeremy Kiszka, Florida International University, 3000 NE 151st Street, Marine Science Building, Room 250D, North Miami, Florida 33181, has applied in due form for a permit to conduct research on bottlenose dolphins (Tursiops truncatus).

DATES: Written, telefaxed, or email comments must be received on or before August 10, 2017.

ADDRESSES: The application and related documents are available for review by selecting “Records Open for Public Comment” from the “Features” box on the Applications and Permits for Protected Species (APPS) home page, https://apps.nmfs.noaa.gov, and then selecting File No. 21143 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Courtney Smith or Carrie Hubard, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant requests a five-year permit to take bottlenose dolphins for scientific research to evaluate the population structure and spatiotemporal variation in dolphin abundance, foraging ecology, and ecological roles within waters of the Everglades National Park. Up to 3,020 bottlenose dolphins from three stocks (Gulf of Mexico Bay, Sound & Estuarine; Gulf of Mexico Eastern Coastal; and Florida Bay) would be approached annually during vessel surveys for photography, photo-identification, video recording, and behavioral observation. Up to 59 of the above animals may be additionally be biopsy sampled during vessel surveys annually. Samples may be exported to collaborators for analysis.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Catherine Marzin,
Acting Deputy Director, Office of Protected Resources, National Marine Fisheries Service.

[FR Doc. 2017-14465 Filed 7-10-17; 8:45 am]

BILLING CODE 3510-22-P